DEPARTMENT OF ENERGY

Federal Energy Regulatory Commission

Combined Notice of Filings #1

Take notice that the Commission received the following electric corporate filings:

Docket Numbers: EC25-46-000.

Applicants: Potomac Energy Center, LLC, Potomac Energy LLC.

Description: Potomac Energy Center, LLC, et al. submit response to FERC's 04/10/2024 Deficiency Letter, Request for Confidential Treatment, Request for Shortened Comment Period, and Request for Expedited Action.

Filed Date: 4/17/25.

Accession Number: 20250417-5243.

Comment Date: 5 p.m. ET 5/8/25.

Docket Numbers: EC25-77-000.

Applicants: Kleen Energy Systems, LLC, Alpha Generation Kleen GP, LLC.

Description: Joint Application for Authorization Under Section 203 of the Federal Power Act of Kleen Energy Systems, LLC, et al.

Filed Date: 4/11/25.

Accession Number: 20250411-5243.

Comment Date: 5 p.m. ET 5/27/25.

Take notice that the Commission received the following electric rate filings:

Docket Numbers: ER10-1781-009; ER19-2626-011; ER21-714-012; ER22-381-015; ER22-399-007; ER23-2321-005.

Applicants: Dunns Bridge Energy Storage, LLC, Meadow Lake Solar Park LLC, Dunns Bridge Solar Center, LLC, Indiana Crossroads Wind Farm LLC, Rosewater Wind Farm LLC, Northern Indiana Public Service Company.

Description: Notice of Non-Material Change in Status of Dunns Bridge Energy Storage, LLC, et al.

Filed Date: 4/18/25.

Accession Number: 20250418-5250.

Comment Date: 5 p.m. ET 5/9/25.

Docket Numbers: ER21-1134-001.

Applicants: Hummel Station, LLC.

Description: Compliance filing: Informational Filing Regarding Upstream Transfer of Ownership to be effective N/A.

Filed Date: 4/18/25.

Accession Number: 20250418-5212.

Comment Date: 5 p.m. ET 5/9/25.

Docket Numbers: ER22-2176-002.

Applicants: Rolling Hills Generating, L.L.C.

Description: Compliance filing: Informational Filing Regarding Upstream Transfer of Ownership to be effective N/A.

Filed Date: 4/18/25.

Accession Number: 20250418-5215.

Comment Date: 5 p.m. ET 5/9/25.

Docket Numbers: ER25-1137-001.

Applicants: Southwest Power Pool, Inc.

Description: Tariff Amendment: Deficiency Response—Revisions to WEIS Tariff Regarding Market Holds to be effective 4/5/2025.

Filed Date: 4/21/25.

Accession Number: 20250421-5113.

Comment Date: 5 p.m. ET 5/12/25.

Docket Numbers: ER25-1342-000.

Applicants: Second Imperial Geothermal Company L.P.

Description: Second Supplement to February 19, 2025, Second Imperial Geothermal Company LLC tariff filing.

Filed Date: 4/21/25.

Accession Number: 20250421-5082.

Comment Date: 5 p.m. ET 5/5/25.

Docket Numbers: ER25-1408-000.

Applicants: DTE Electric Company.

Description: Refund Report: Refund Report to be effective N/A.

Filed Date: 4/18/25.

Accession Number: 20250418-5002.

Comment Date: 5 p.m. ET 5/9/25.

Docket Numbers: ER25-2003-000.

Applicants: Duane Arnold Solar II, LLC.

Description: Tariff Amendment: Notice of Cancellation of Market-Based Rate Tariff to be effective 4/18/2025.

Filed Date: 4/18/25.

Accession Number: 20250418-5202.

Comment Date: 5 p.m. ET 5/9/25.

Docket Numbers: ER25-2004-000.

Applicants: PJM Interconnection, L.L.C.

Description: Tariff Amendment: Notice of Cancellation of Service Agreement No. 7026; Queue No. AF2-243 to be effective 6/30/2025.

Filed Date: 4/21/25.

Accession Number: 20250421-5031.

Comment Date: 5 p.m. ET 5/12/25.

Docket Numbers: ER25-2005-000.

Applicants: Grant Solar, LLC.

Description: Request for Prospective and Limited Waiver, et al. of Grant Solar, LLC.

Filed Date: 4/18/25.

Accession Number: 20250418-5251.

Comment Date: 5 p.m. ET 5/9/25.

Docket Numbers: ER25-2006-000.

Applicants: Midcontinent Independent System Operator, Inc., American Transmission Company LLC.

Description: § 205(d) Rate Filing: American Transmission Company LLC submits tariff filing per 35.13(a)(2)(iii): 2025-04-21_SA 4347 ATC-WPL 1st Rev PCA (Project Wave) to be effective 6/21/2025.

Filed Date: 4/21/25.

Accession Number: 20250421-5071.

Comment Date: 5 p.m. ET 5/12/25.

Docket Numbers: ER25-2007-000.

Applicants: Viridon Path 15 LLC.

Description: § 205(d) Rate Filing: Notice of Succession and Revised Transmission Owner Tariff to be effective 3/28/2025.

Filed Date: 4/21/25.

Accession Number: 20250421-5075.

Comment Date: 5 p.m. ET 5/12/25.

Docket Numbers: ER25-2008-000.

Applicants: Midcontinent Independent System Operator, Inc.

Description: § 205(d) Rate Filing: 2025-04-21_SA 4312 Termination of OTP-Red Lake Cty Comm Hybrid LLC GIA (R121) to be effective 4/22/2025.

Filed Date: 4/21/25.

Accession Number: 20250421-5089.

Comment Date: 5 p.m. ET 5/12/25.

Docket Numbers: ER25-2009-000.

Applicants: AEP Texas Inc.

Description: § 205(d) Rate Filing: AEPTX-Dios BESS Generation Interconnection Agreements to be effective 4/3/2025.

Filed Date: 4/21/25.

Accession Number: 20250421-5115.

Comment Date: 5 p.m. ET 5/12/25.

Docket Numbers: ER25-2011-000.

Applicants: ISO New England Inc., NECEC Transmission LLC.

Description: § 205(d) Rate Filing: ISO New England Inc. submits tariff filing per 35.13(a)(2)(iii: ISO-NE/NECEC; Filing of Agreements for Operation of the NECEC Transmission Lines to be effective 6/20/2025.

Filed Date: 4/21/25.

Accession Number: 20250421-5136.

Comment Date: 5 p.m. ET 5/12/25.

Docket Numbers: ER25-2012-000.

Applicants: Hummel Station, LLC, Rolling Hills Generating, L.L.C.

Description: Hummel Station, LLC et. al. requests a one-time waiver of the 90-day prior notice requirement in Schedule 2 of the PJM Interconnection, L.L.C. Open Access Transmission Tariff.

Filed Date: 4/18/25.

Accession Number: 20250418-5255.

Comment Date: 5 p.m. ET 5/9/25.

Take notice that the Commission received the following electric securities filings:

Docket Numbers: ES25-37-000.

Applicants: PJM Interconnection, L.L.C.

Description: Supplement to Application Under Section 204 of the Federal Power Act for Authorization to Issue Securities of PJM Interconnection, L.L.C.

Filed Date: 4/18/25.

Accession Number: 20250418-5236.

Comment Date: 5 p.m. ET 5/9/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 21, 2025.
Carlos D. Clay,
Deputy Secretary.

[FR Doc. 2025-07179 Filed 4-24-25; 8:45 am]

BILLING CODE 6717-01-P